DEPARTMENT OF THE INTERIOR

Bureau of Indian Affairs

25 CFR Parts 30, 37, 39, 42, 44, and 47

RIN 1076-AE49

Need To Resubmit Comments on the No Child Left Behind Proposed Rule

AGENCY: Bureau of Indian Affairs, Interior.

ACTION: Proposed rule; notice of need to resubmit comments.

SUMMARY: During the period of March 16 through March 25, 2004, the Department of the Interior had no internet access or e-mail capability. Comments on the No Child Left Behind rule submitted via e-mail or the internet during the period of March 16 through March 25, 2004, on this rule that the comments must be resubmitted. Because the comment period is still open and there is adequate time to resubmit any electronic comments, we will not be extending the comment period for this rule.

DATES: Comments on the proposed rule must be received on or before June 24, 2004.

ADDRESSES: Submit comments to one of the following addresses. Mail: Director (630), Bureau of Land Management, Eastern States Office, 7450 Boston Boulevard, Springfield, Virginia 22153, Attention: RIN 1076-AE49. Personal or messenger delivery: 1620 L Street NW., Room 401, Washington, DC 20036. Direct Internet response: http://www.blm.gov/nhp/news/regulatory/index.html, or at http://www.blm.gov, or at regulations.gov under Indian Affairs Bureau. Send comments on the information collections in the proposal to: Interior Desk Officer (1076-AE49), Office of Management and Budget, 725 15th Street NW., Washington, DC 20503; 202/395-6566 (facsimile); e-mail: oira_docket@omb.eop.gov.

FOR FURTHER INFORMATION CONTACT: Catherine Freels, Designated Federal Official, P.O. Box 1430, Albuquerque, NM 87103-1430; Phone: 505-248-7240; e-mail: cfreels@bia.edu.

SUPPLEMENTARY INFORMATION: The Department published the proposed rule to implement the No Child Left behind on February 25, 2004 at 40 FR 8751.

Although this rule is published by the Bureau of Indian Affairs, the Bureau of Land Management is processing comments under agreement with the Bureau of Indian Affairs. If you wish to comment on this proposed rule, you may submit your comments by any one of several methods.

(1) You may mail comments to: Director (630), Bureau of Land Management, Eastern States Office, 7450 Boston Boulevard, Springfield, Virginia 22153, Attention: RIN 1076-AE49.

(2) You may submit comments electronically by direct Internet response to either http://www.blm.gov/nhp/news/regulatory/index.html, or http://www.blm.gov,

(3) You may hand-deliver comments to: 1620 L Street NW., Room 401, Washington, DC 20036.

Our practice is to make comments, including names and home addresses of respondents, available for public review during regular business hours. Individual respondents may request that we withhold their home address from the rulemaking record. We will honor the request to the extent allowable by law.

There may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: April 1, 2004.
David W. Anderson,
Assistant Secretary—Indian Affairs.

[FR Doc. 04-8775 Filed 4-16-04; 8:45 am]

BILLING CODE 4310-6W-M